DEPARTMENT OF COMMERCE

International Trade Administration

(A-549-817)

Certain Hot-Rolled Carbon Steel Flat Products from Thailand: Extension of Time Limit for the Final Results of Antidumping Duty Administrative Review

AGENCY: Import Administration, International Trade Administration, Department of Commerce.

EFFECTIVE DATE: March 2, 2007

FOR FURTHER INFORMATION CONTACT: Stephen Bailey or Dena Crossland, AD/CVD Operations, Office 7, Import Administration, International Trade Administration, U.S. Department of Commerce, 14th Street and Constitution Avenue, NW, Washington, DC 20230; telephone: (202) 482-0193 or (202) 482-3362, respectively.

SUPPLEMENTARY INFORMATION:

Background

On November 8, 2006, the Department of Commerce (“the Department”) published the preliminary results of the administrative review of the antidumping duty order on certain hot-rolled carbon steel flat products (“hot-rolled steel”) from Thailand covering the period November 1, 2004, through October 31, 2005. See Certain Hot-Rolled Carbon Steel Flat Products From Thailand; Preliminary Results of Antidumping Duty Administrative Review and Rescission in Part, 71 FR 65458 (November 8, 2006). The final results for the antidumping duty administrative review of hot-rolled steel from Thailand are currently due no later than March 8, 2007.

Extension of Time Limits for Final Results of Review

Section 751(a)(3)(A) of the Tariff Act of 1930, as amended (“the Act”), requires the Department to issue the final results within 120 days after the date on which the preliminary results are published. However, if it is not practicable to complete the review within that time period, section 751(a)(3)(A) of the Act allows the Department to extend the time limit of the final results to 180 days from the date of publication of the preliminary results.

Due to the complexity of the affiliation issue present in this administrative review, as well as the demands of other proceedings handled by the office administering this review, the Department has determined that it is not practicable to complete this review within the original time period. Accordingly, the Department is extending the time for completion of the final results to 180 days from the publication date of the preliminary results, until no later than May 7, 2007, in accordance with section 751(a)(3)(A) of the Act.

We are issuing and publishing this notice in accordance with sections 751(a)(1) and 777(i)(1) of the Act.

Dated: February 23, 2007.
Stephen J. Claeys,
Deputy Assistant Secretary for Import Administration.

[FR Doc. E7-3699 Filed 3-1-07; 8:45 am]

BILLING CODE 3510-DS-S